DEPARTMENT OF TRANSPORTATION

Federal Aviation Administration

14 CFR Part 39

[Docket No. FAA-2025-5037; Project Identifier AD-2025-00212-A; Amendment 39-23255; AD 2026-03-06]

RIN 2120-AA64

Airworthiness Directives; Textron Aviation, Inc. (Type Certificate Previously Held by Cessna Aircraft Company) Airplanes

AGENCY: Federal Aviation Administration (FAA), DOT.

ACTION: Final rule.

SUMMARY: The FAA is adopting a new airworthiness directive (AD) for all Textron Aviation, Inc., Model 525B airplanes. This AD was prompted by the manufacturer's revision of the aircraft maintenance manual (AMM) to introduce more restrictive inspection intervals. This AD requires revising the Airworthiness Limitations Section (ALS) of the existing AMM or instructions for continued airworthiness (ICA) and the existing approved maintenance or inspection program, as applicable. The FAA is issuing this AD to address the unsafe condition on these products.

DATES: This AD is effective March 13, 2026.

ADDRESSES:

AD Docket: You may examine the AD docket at regulations.gov under Docket No. FAA-2025-5037; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Soban Saeed, Aviation Safety Engineer, FAA, 1801 South Airport Road, Wichita, KS 67209; phone: (316) 946-4123; email: CCB-COS@faa.gov.

SUPPLEMENTARY INFORMATION:

Background

The FAA issued a notice of proposed rulemaking (NPRM) to amend 14 CFR part 39 by adding an AD that would apply to all Textron Aviation, Inc., Model 525B airplanes. The NPRM was published in the Federal Register on November 28, 2025 (90 FR 54599). The NPRM was prompted by notification to the FAA by Textron Aviation that the existing Model 525B AMM contained incorrect inspection intervals for airworthiness limitation tasks for Chapter 54—Nacelle/Pylons and Chapter 55—Stabilizers. The incorrect inspection intervals were introduced during a technical manual update. In the NPRM, the FAA proposed to require revising the ALS of the existing AMM or ICA and the existing approved maintenance or inspection program, as applicable. The FAA is issuing this AD to prevent undetected cracks in the engine mount and vertical stabilizer front and rear spar caps. The unsafe condition, if not addressed, could result in reduced structural integrity and consequent reduced controllability of the airplane.

Discussion of Final Airworthiness Directive

Comments

The FAA received a comment from Capital City Jet Center. The commenter had no objection to the NPRM.

Conclusion

The FAA reviewed the relevant data, considered any comments received, and determined that air safety requires adopting this AD as proposed. Accordingly, the FAA is issuing this AD to address the unsafe conditions on these products. Except for minor editorial corrections, this AD is adopted as proposed in the NPRM.

Costs of Compliance

The FAA estimates that this AD affects 601 airplanes of U.S. registry. The FAA estimates the following costs to comply with this AD:

Estimated Costs
Action | Labor cost | Parts cost | Cost per product | Cost on U.S. operators
Revise the ALS | 1 work-hour × $85 per hour = $85 | $0 | $85 | $51,085

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-03-06 Textron Aviation, Inc.: Amendment 39-23255; Docket No. FAA-2025-5037; Project Identifier AD-2025-00212-A.

(a) Effective Date

This airworthiness directive (AD) is effective March 13, 2026.

(b) Affected ADs

None.

(c) Applicability

This AD applies to all Textron Aviation, Inc. (Type Certificate previously held by Cessna Aircraft Company) Model 525B airplanes, certificated in any category.

(d) Subject

Joint Aircraft System Component (JASC) Code 5530, Vertical Stabilizer Structure; 5415, Nacelle/Pylon, Attach Fittings.

(e) Unsafe Condition

This AD was prompted by the manufacturer's revision of the aircraft maintenance manual (AMM) to introduce more restrictive inspection intervals. The FAA is issuing this AD to prevent undetected cracks in the engine mount and vertical stabilizer front and rear spar caps. The unsafe condition, if not addressed, could result in reduced structural integrity and consequent reduced controllability of the airplane.

(f) Compliance

Comply with this AD within the compliance times specified, unless already done.

(g) Airworthiness Limitations Section (ALS) Revision

Within 150 hours time-in-service (TIS) or 12 months after the effective date of this AD, whichever occurs first: Revise the ALS of the existing AMM or instructions for continued airworthiness (ICA) and the existing approved maintenance or inspection program, as applicable, by incorporating the information identified in table 1 to paragraph (g) of this AD.

Table 1 to paragraph (g)—Revised Model 525B Airworthiness Limitation Tasks
Task No. | Task title | Existing task interval | Revised task interval | Inspection document | Zone
54-50-00-250 | Forward Engine Mount Channel Flange (Eddy Current) Special Detailed Inspection | 6,000 hours TIS | 6,100 hours TIS, then 4,100 hours TIS thereafter | 4-12-MI | 411, 412
54-50-00-252 | Aft Engine Beam Aft Upper Angle Common to Aft Web, BL 24.50 (Eddy Current) Special Detailed Inspection | 11,500 hours TIS | 14,100 hours TIS, then every 2,700 hours TIS thereafter | 4-12-MR | 311, 312
54-50-00-254 | Forward Engine Mount Aft Channel Web (Eddy Current) Special Detailed Inspection | 12,000 hours TIS | 16,300 hours TIS, then every 11,600 hours TIS thereafter | 4-12-MS | 410, 420
54-50-00-255 | Forward Engine Mount Forward Channel Web (Eddy Current) Special Detailed Inspection | 12,000 hours TIS | 15,600 hours TIS, then every 11,100 hours TIS thereafter | 4-12-NB | 410, 420
55-40-00-250 | Vertical Fin Left and Right Front Spar Cap at Attachment Hole #2 (Eddy Current) Special Detailed Inspection | 9,000 hours TIS, then every 7,500 hours TIS thereafter | 9,000 hours TIS, then every 7,000 hours TIS thereafter | 4-12-ML | 340
55-40-00-251 | Vertical Fin Left and Right Front Spar Cap at Attachment Hole #1 (Eddy Current) Special Detailed Inspection | 15,000 hours TIS | 17,700 hours TIS, then every 14,900 hours TIS thereafter | 4-12-MO | 340
55-40-00-252 | Vertical Fin Left and Right Rear Spar Cap at Attachment Hole #1 (Eddy Current) Special Detailed Inspection | 15,000 hours TIS, then every 14,500 hours TIS thereafter | 23,600 hours TIS, then every 12,100 hours TIS thereafter | 4-12-MQ | 340

Note 1 to paragraph (g): Additional guidance for accomplishing the actions required by this AD can be found in Textron Aviation Service Letter SL525B-05-04, Revision 1, dated January 7, 2025.

(h) Provisions for Alternative Actions and Intervals

After the action required by paragraph (g) of this AD has been done, no alternative actions and associated thresholds and intervals are allowed unless they are approved as specified in the provisions of paragraph (i) of this AD.

(i) Alternative Methods of Compliance (AMOCs)

(1) The Manager, Central Certification Branch, FAA, has the authority to approve AMOCs for this AD, if requested using the procedures found in 14 CFR 39.19. In accordance with 14 CFR 39.19, send your request to your principal inspector or local Flight Standards District Office, as appropriate. If sending information directly to the manager of the Central Certification Branch, send it to the attention of the person identified in paragraph (j)(1) of this AD and email to: AMOC@faa.gov.

(2) Before using any approved AMOC, notify your appropriate principal inspector, or lacking a principal inspector, the manager of the local flight standards district office/certificate holding district office.

(j) Additional Information

(1) For more information about this AD, contact Soban Saeed, Aviation Safety Engineer, FAA, 1801 South Airport Road, Wichita, KS 67209; phone: (316) 946-4123; email: CCB-COS@faa.gov.

(2) For Textron Aviation material identified in this AD that is not incorporated by reference, contact Textron Aviation, Inc., P.O. Box 7706, Wichita, KS 67277; phone: (316) 517-6215; email: citationpubs@txtav.com; website: ww2.txtav.com/technicalpublications/.

(k) Material Incorporated by Reference

None.

Issued on February 2, 2026.
Steven W. Thompson,
Acting Deputy Director, Compliance & Airworthiness Division, Aircraft Certification Service.

[FR Doc. 2026-02415 Filed 2-5-26; 8:45 am]

BILLING CODE 4910-13-P